FEDERAL RESERVE SYSTEM

Agency Information Collection Activities: Announcement of Board Approval Under Delegated Authority and Submission to OMB

Summary:

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

For Further Information Contact:

Federal Reserve Board Clearance Officer—Mary M. West—Division of Research and Statistics, Board of Governors of the Federal Reserve System, Washington, DC 20551 (202-452-3829)

OMB Desk Officer—Alexander T. Hunt—Office of Information and Regulatory Affairs, Office of Management and Budget, New Executive Office Building, Room 3208, Washington, DC 20503 (202-395-7860)

Final Approval Under OMB Delegated Authority of the Extension for Three Years, Without Revision, of the Following Reports

1. Report title: Transfer Agent Registration and Amendment Form.

Agency form number: FR TA-1.

OMB Control number: 7100-0099.

Frequency: On occasion.

Reporters: State member banks and their subsidiaries, bank holding companies, and certain nondeposit trust company subsidiaries of bank holding companies.

Annual reporting hours: 12.

Estimated average hours per response: 1.25 (registration), 0.17 (amendment).

Number of respondents: 7 (registrations), 15 (amendments) Small businesses are not affected.

General description of report: This information collection is mandatory (Sections 17A(c), 17(a), and 23(a) of the Securities Exchange Act of 1934 as amended (15 U.S.C. 78q-1(c)(1) and (2), 78(q)(3), and 78w(a)(1)) and is not given confidential treatment.

Abstract: The Securities Exchange Act requires any person acting as a transfer agent to register as such and to amend registration information when it changes. State member banks and their subsidiaries, bank holding companies, and certain nondeposit trust company subsidiaries of bank holding companies register with the Federal Reserve System by submitting form TA-1. The information collected includes the company name, all business addresses, and several questions about the registrant's proposed activity as a transfer agent. The Federal Reserve uses the information to act upon applications and to aid in performing its supervisory duties.

Board of Governors of the Federal Reserve System, April 12, 2001.
Jennifer J. Johnson,
Secretary of the Board.

[FR Doc. 01-9561 Filed 4-17-01; 8:45 am]

BILLING CODE 6210-01-P